DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending June 30, 2004. Names follow in order of: last name, first name, and middle name (or initial) if applicable.

MacKenzie, Karen Anne

Thiel, Ljiijana

Zhang, Yichen

Ho, Hue Shine

Gevas, George Thomas James

Brodtkorb, Brit

Hellman, Patrick Wayne

Nordstrom (born Daugherity), Howard Reed

Lai, Cho Yin

Jen, Winston Denis

Murphy-Ashwal Eshel, Colleen Ann

Hammonds, Eleonora Teresa

Reilly, Brian Francis

Agusta, Giovanni Mario

Sullivan-Delcroix, Mary Lou

Thorsen, Even

Borggraefe, Hark

Waldmann, Frederick Joachim

Sunnenberg, Bernard Charles

Benham, Daniel Doyle

Vryenhoek, Leslie Ellen

Legro, Peter J

Rawlinson, Anthony Richard

Szasz, John Edward

Pense, Evelyn M

Tharp, David Russell

Eagbson, Clifford Hodge

Simms, Clifford D

Grim, Paul Andrew

Johnson, Roger Carlton

Yoshida, Ken

Gale, Jeffrey Dermot

Chow, Mo Ching

Yeung, Wyn Chan Andrew

Kieser, Nancy Marie

Jolly, Linda Sue

Partenheimer, Susanne Caroline

Pfeiffer, Heidi Kathrin

Matsunaga, Shin

Furulund, John Erik

Hui, Harry Chi

Hull, Elizabeth Ann

Lang, Larry Hsien Ping

Wang, Linjia

Lepome, Charles John

Dunkum, Marisa Hildegard

Maraman, Bessie Margarete

Meenken, Karen Ann

Alcocer, Armando

Wallace, Earl Byron

Wilson, Richard Laird

Nyhus, Betty Lou

Nyhus, Wilson Selmer

Sculati, Robert David

Yin (a.k.a. John Yin), Yuan Shi

Ripley, Margaret Louise

Mentzoni, Tor Erik

Graham, Gregory Peter

Mueller, Elsie

Hoppe, Denise Michelle

Nielsen, Keith Franklin

Jenkins, Melinda June

Frank, Elaine Irene

Williams, Kristinia Louise

Pempek, Michael Joseph

Bradshaw, Lee H

D'Estmael, Alexandra DeWilde

Wiese, Ann Elise

Lee, Sher May

Sheng Ho, Jonathan Rui

Spitzl, Johannes Franciskus

De Oca, Orlando Montes

Citron, Peter Adrian

Cazier, Chae Nam

De Champlain, Michel

Kim, Eun Ae

McCarty, Hyon Chu

Kundig, Thomas Martin

Gonzalez, Eric Elias Engen

Mitchell, Patricia Madeleine

Minehan, Kathleen

Karpathy, David Walter

Stoa, Ellen Christine

Fleming, Christian Peter

Stephens, Erik Bruce

Gedde-Dahl, Sally Ann

Geno, Barbara Jean

Sibley, Judith Steel O'Heney

Geno, Larry Malvin

Schaefer, Hans Jurgen

Jastrey, John Thomas

Redelfs, Karin Ingrid

Rothbarth, Nicola Eve

Rothbarth, Katherine Anne

Roland, Renee Cindy

Narvestad, Tove Tornoe

Powers Freeling, Laurel Claire

Prebensen, Anne Sword

Havermann, Ingrid Brigitte

Bateman, David James

Anderson, Alec Ralph

Aiken, Jeffrey Michael

Aboukhater, Mona Bass

Aboukhater, Bass

Gunn, Elisabeth Ann

Creeden, Patricia Marie

Willner, Olga

Pfau, Ellen Alice

Bartos O Neill, Gerald Weymeth

Zubick, Adolph John

Butterfield, Laura Strong

Tanner, Louis Allan

Tanner, Linda P

White, Sandy Kay

Petit, Alexandra Andree

Wold, Kristine Ann

Woods, Gregory Glen

Treco (nee Goddard), Jeanne Anya

Naslas, Costas

Barretto, Camilla Brand de Mattos

Leigh, James Anthony

MacIntyre, Craig William

Nelson, James William

Balteskonis, Robert Steve

Wagen, Monika Maria

Tallon, Suavaec

Sullivan, Charles Robert

Stevens, Ranee Erna

Lederer, Cristian Cedric

Sola, Nils Olaf

Oltman, Thomas Frederick

Biktjorn, Tommy Sigbjorn

Delphine Francois, Juliette Marie

Gebauer, Stefan Johannes

Goulandris, Nicholas Leonidas

Henner, Bryan Austin

Johnson, Sigrid Anna

Staalroed, Shirley Jean

Dated: October 4, 2004.
Tracy Harmon,
Examination Operation, Philadelphia Compliance Services.

[FR Doc. 04-23598 Filed 10-20-04; 8:45 am]

BILLING CODE 4830-01-P